NUCLEAR REGULATORY COMMISSION

Sunshine Act Meeting

AGENCY HOLDING THE MEETING: Nuclear Regulatory Commission.

DATES: Weeks of October 8, 15, 22, 29, November 5, 12, 2001.

PLACE: Commissioners' Conference Room, 11555 Rockville Pike, Rockville, Maryland.

STATUS: Public and Closed.

MATTERS TO BE CONSIDERED:

Week of October 8, 2001

There are no meetings scheduled for the week of October 8, 2001.

Week of October 15, 2001—Tentative

Thursday, October 18, 2001

9:00 a.m.—Meeting with NRC Stakeholders—Progress of Regulatory Reform (Public Meeting) (Location—Two White Flint North Auditorium).

Week of October 22, 2001—Tentative

There are no meetings scheduled for the week of October 22, 2001.

Week of October 29, 2001—Tentative

There are no meetings scheduled for the week of October 29, 2001.

Week of November 5, 2001—Tentative

There are no meetings scheduled for the week of November 5, 2001.

Week of November 12, 2001—Tentative

Thursday, November 15, 2001

2:00 p.m.—Discussion of Intragovernmental Issues (Closed-Ex. 1).

*The schedule for Commission meetings is subject to change on short notice. To verify the status of meetings call (recording)—(301) 415-1292. Contact person for more information: David Louis Gamberoni (301) 415-1651

Additional Information

By a vote of 4-0 on September 26 and 27, the Commission determined pursuant to U.S.C. 552b(e) and § 9.107(a) of the Commission's rules that “Affirmation of Final Rulemaking to Amend 10 CFR Part 55, ‘Operators' Licenses,' Regarding Operator License Eligibility and the Use of Simulator Facilities in Operator Licensing; and, Revision 3 of Regulatory Guide 1.149, “Nuclear Power Plant Simulation Facilities for Use in Operator Training and License Examinations” be held on September 28, and on less than one week's notice to the public

By a vote of 4-0 on October 3, the Commission determined pursuant to U.S.C. 552b(e) and § 9.107(a) of the Commission's rules that “Affirmation of Duke Energy Corporation License Renewal Application for Catawba, Units 1 and 2, and McGuire, Units 1 and 2; Licensing Board Referral and Scheduling Order” be held on October 4, and on less than one week's notice to the public.

The NRC Commission Meeting Schedule can be found on the Internet at: http://www.nrc.gov/SECY/smj/schedule.htm

This notice is distributed by mail to several hundred subscribers; if you no longer wish to receive it, or would like to be added to the distribution, please contact the Office of the Secretary, Washington, D.C. 20555 (301-415-1969). In addition, distribution of this meeting notice over the Internet system is available. If you are interested in receiving this Commission meeting schedule electronically, please send an electronic message to dkw@nrc.gov.

Dated: October 4, 2001.
David Louis Gamberoni,
Technical Coordinator, Office of the Secretary.

[FR Doc. 01-25544 Filed 10-5-01; 2:19 pm]

BILLING CODE 7590-01-M